DEPARTMENT OF COMMERCE

International Trade Administration

[A-533-857]

Certain Oil Country Tubular Goods From India: Correction to Notice of Final Results of Antidumping Duty Administrative Review and Determination of No Shipments; 2018-2019

AGENCY: Enforcement and Compliance, International Trade Administration, Department of Commerce.

SUMMARY: The Department of Commerce (Commerce) is correcting the final results of the administrative review of the antidumping duty order on certain oil country tubular goods (OCTG) from India. The period of review (POR) is September 1, 2018 through August 31, 2019.

DATES: Applicable October 27, 2020.

FOR FURTHER INFORMATION CONTACT: Kathryn Turlo, AD/CVD Operations, Office VII, Enforcement and Compliance, International Trade Administration, U.S. Department of Commerce, 1401 Constitution Avenue NW, Washington, DC 20230; telephone: (202) 482-3870.

SUPPLEMENTARY INFORMATION:

Correction

On September 11, 2020, Commerce published in the Federal Register the Final Results of this administrative review.¹ Subsequent to the publication of the notice in the Federal Register, we identified an inadvertent error in the Final Results. Commerce made an error in the “Assessment Rates” and “Cash Deposit Requirements” sections of the notice, by inadvertently including an incorrect all-others rate for exporters and/or manufacturers not covered by the review for which the Final Results were published. Specifically, the all-others rate should have been listed as 0.60 percent, as reflected in the Amended Order issued pursuant to litigation.² For reference, below are the corrected paragraphs regarding the all-others rate discussed in the Final Results.

¹ See Certain Oil Country Tubular Goods from India: Final Results of Antidumping Duty Administrative Review and Determination of No Shipments; 2018-2019, 85 FR 56213 (September 11, 2020) (Final Results).

² See Certain Oil Country Tubular Goods from India: Notice of Correction to the Amended Final Determination and Amendment of the Antidumping Duty Order, 83 FR 59360 (November 23, 2018) (Amended Order).

Assessment Rates

Commerce determines, and U.S. Customs Border and Protection (CBP) shall assess, antidumping duties on all appropriate entries of subject merchandise in accordance with these final results of review.³ Consistent with Commerce's clarification to its assessment practice, because we determined that Jindal SAW Ltd. (JSL) had no shipments of subject merchandise to the United States during the POR, for entries of subject merchandise during the POR produced by JSL, for which this company did not know that the merchandise was destined for the United States, we will instruct CBP to liquidate any entries at the all-others rate (i.e., 0.60 percent) ⁴ if there is no rate for the intermediate company(ies) involved in the transaction.⁵

³ See 19 CFR 351.212(b).

⁴ See Amended Order, 83 FR at 59361.

⁵ For a full discussion of this clarification, see Antidumping and Countervailing Duty Proceedings: Assessment of Antidumping Duties, 68 FR 23954 (May 6, 2003).

We intend to issue instructions to CBP 15 days after the date of the publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for JSL will remain unchanged from the rate assigned to them in the most recently completed segment for the company; ⁶ (2) for merchandise exported by manufacturers or exporters not covered in this review but covered in a prior segment of the proceeding, the cash deposit rate will continue to be the company-specific rate published for the most recently-completed segment; (3) if the exporter is not a firm covered in a prior review, or the original investigation, but the manufacturer is, then the cash deposit rate will be the rate established for the most recently completed segment for the manufacturer of the merchandise; and (4) the cash deposit rate for all other manufacturers or exporters will continue to be 0.60 percent, the all-others cash deposit rate established in the less-than-fair-value investigation.⁷ These cash deposit requirements, when imposed, shall remain in effect until further notice.

⁶ See Amended Order, 83 FR at 59361.

⁷ Id.

Conclusion

Commerce clarifies that the “Assessment Rates” and “Cash Deposit Requirements” sections of the Final Results inadvertently listed the all-others rate as zero percent and that the correct all-others rate is 0.60 percent. Commerce intends to issue revised instructions to CBP for entries made during the POR, which include the corrected all-others rate.

Dated: October 20, 2020.
Jeffrey I. Kessler,
Assistant Secretary for Enforcement and Compliance.

[FR Doc. 2020-23741 Filed 10-26-20; 8:45 am]

BILLING CODE 3510-DS-P